DEPARTMENT OF ENERGY

Federal Energy Regulatory Commission

[Docket No. CP01-430-000]

Florida Gas Transmission Company; Notice of Request Under Blanket Authorization

August 30, 2001.

Take notice that on August 22, 2001, Florida Gas Transmission Company (FGT), 1400 Smith Street, Suite 3997, P.O. Box 1188, Houston, Texas 77251-1188, filed in Docket No. CP01-430-000 a request pursuant to Sections 157.205 and 157.211 of the Commission's Regulations (18 CFR 157.205 and 157.211) under the Natural Gas Act (NGA) for authorization to construct and operate delivery point facilities for service to an end-user in Polk County, Florida, under FGT's blanket certificate issued in Docket No. CP82-553-000, pursuant to Section 7 of the NGA, all as more fully set forth in the application which is on file with the Commission and open to public inspection. Copies of this filing are on file with the Commission and are available for public inspection. This filing may also be viewed on the web at http://www.ferc.gov using the “RIMS” link, select “Docket #” and follow the instructions (call 202-208-2222 for assistance).

FGT requests authorization to construct and operate delivery point facilities, consisting of a 4-inch tap valve, connecting pipe and electronic flow measurement instrumentation, to serve Florida Natural Growers (FNG). It is stated that FGT will use the facilities to transport up to 800 MMBtu equivalent of natural gas per day on an interruptible basis pursuant to Section 284.223 of the Commission's regulations. FGT estimates the cost of the facilities at $86,800 and states that it would be reimbursed by FNG for all costs associated with the facilities. FGT states that FNG will construct approximately 65 feet of connecting pipe from FGT's facilities to FNG's meter station. It is explained that the FNG currently receives gas service from Central Florida Gas, a subsidiary of Chesapeake Utilities Corporation. It is asserted that FGT has sufficient capacity to render the proposed service without detriment or disadvantage to its other existing customers. It is further asserted that because the proposal involves interruptible deliveries, it will have no impact on FGT's peak day and annual deliveries.

Any questions regarding the application may be directed to Stephen T. Veatch, Director, Certificates and Regulatory Reporting, at (713) 853-6549.

Any person or the Commission's staff may, within 45 days after issuance of the instant notice by the Commission, file pursuant to Rule 214 of the Commission's Procedural Rules (18 CFR 385.214) a motion to intervene or notice of intervention and pursuant to Section 157.205 of the Regulations under the NGA (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to Section 7 of the NGA. Copies of this filing are on file with the Commission and are available for public inspection. Comments, protests and interventions may be filed electronically via the Internet in lieu of paper. See, 18 CFR 385.2001(a)(1)(iii) and the instructions on the Commission's web site under the “e-Filing” link.

David P. Boergers,
Secretary.

[FR Doc. 01-22337 Filed 9-5-01; 8:45 am]

BILLING CODE 6717-01-P